DEPARTMENT OF COMMERCE

Census Bureau

Proposed Information Collection; Comment Request; Boundary and Annexation Survey

Correction

In notice document 2018-04514, on pages 9475-9478, in the issue of Tuesday, March 6, 2018, make the following correction:

On page 9475, in the first column, in the heading DATES, the entry that reads “March 7, 2018” should read “May 7, 2018”.

[FR Doc. C1-2018-04514 Filed 3-16-18; 8:45 am]

BILLING CODE 1301-00-D